FEDERAL DEPOSIT INSURANCE CORPORATION

Agency Information Collection Activities: Proposed Collection Renewal; Comment Request; OMB No. 3064-0093; -0111; -0136

AGENCY: Federal Deposit Insurance Corporation (FDIC).

ACTION: Agency information collection activities: Submission for OMB review; comment request.

SUMMARY: The FDIC, as part of its obligations under the Paperwork Reduction Act of 1995, invites the general public and other Federal agencies to take this opportunity to comment on the request to renew the existing information collections described below (OMB Control No. 3064-0093; -0111 and—0136).

DATES: Comments must be submitted on or before March 11, 2022.

ADDRESSES: Interested parties are invited to submit written comments to the FDIC by any of the following methods:

• Agency Website: https://www.fdic.gov/resources/regulations/federal-register-publications/index.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Notices Required of Government Securities Dealers or Brokers (Insured State Nonmember Banks).

OMB Number: 3064-0093.

Form Number: G-FIN; G-FINW; G- FIN4 & G-FIN5.

Affected Public: Insured state nonmember banks acting as government securities brokers and dealers.

Burden Estimate:

Summary of Estimated Annual Burden
[OMB No. 3064-0093]
Information collection description | Type of burden (obligation to respond) | Frequency of response | Number of respondents | Number of responses per respondent | Hours per response | Annual burden (hours)
Notice by Financial Institutions of Government Securities Broker or Government Securities Dealer Activities (G-FIN) | Reporting (Mandatory) | On Occasion | 1 | 1 | 1 | 1
Notice by Financial Institutions of Termination of Activities as a Government Securities Broker or Government Securities Dealer (G-FINW) | Reporting (Mandatory) | On Occasion | 1 | 1 | 2 | 2
Disclosure Form for Person Associated with a Financial Institution Securities Broker or Dealer (G-FIN-4) | Reporting (Mandatory) | On Occasion | 1 | 5 | 2 | 10
Uniform Termination Notice for Persons Associated with a Financial Institution Government Securities Broker or Dealer (G-FIN-5) | Reporting (Mandatory) | On Occasion | 1 | 5 | 0.25 | 1.25
Total Annual Burden (Hours) |  |  |  |  |  | 14.25
Source: FDIC.

General Description of Collection: The Government Securities Act of 1986 requires all financial institutions acting as government securities brokers and dealers to notify their Federal regulatory agencies of their broker dealer activities, unless exempted from the notice requirements by Treasury Department regulation. The Form G-FIN and Form G-FINW are used by insured State nonmember banks that are government securities brokers or dealers to notify the FDIC of their status or that they have ceased to function as a government securities broker or dealer. The Form G-FIN-4 is used by associated persons of insured State nonmember banks that are government securities brokers or dealers to provide certain information to the bank and to the FDIC concerning employment, residence, and statutory disqualification. The Form G-FIN-5 is used by insured State nonmember banks that are government securities brokers or dealers to notify the FDIC that an associated person is no longer associated with the government securities broker or dealer function of the bank.

There is no change in the method or substance of the collection. The overall increase in burden hours is the result of economic fluctuation. In particular, the estimated number of submissions of form G-FIN-4 has increased by four, the hours per response increased by one and frequency of responses have remained the same.

2. Title: Activities and Investments of Insured State Banks.

OMB Number: 3064-0111.

Form Numbers: None.

Affected Public: Insured state nonmember banks and insured state savings associations.

Burden Estimate:

Summary of Estimated Annual Burden
[OMB No. 3064-0111]
Information collection description | Type of burden (obligation to respond) | Frequency of response | Number of respondents | Number of responses per respondent | Hours per response | Annual burden (hours)
Application or Notice to engage in certain activities ¹ | Reporting (Required) | On occasion | 29 | 1.1 | 8 | 256
Total Annual Burden (Hours) |  |  |  |  |  | 256
Source: FDIC.
¹ There is no official form used to submit an application or notice. Institutions write a letter with supporting documentation to FDIC to file a response.

General Description of Collection: Section 24 of the Federal Deposit Insurance (FDI Act), 12 U.S.C. 1831a, limits investments and other activities in which state banks may engage, as principal, to those permissible for national banks and those approved by the FDIC under procedures set forth in part 362 of the FDIC's Rules and Regulations, 12 CFR part 362. With certain exceptions, section 24 of the FDI Act limits the activities and investments of state banks to those activities and investments that are permissible for national banks. In addition, the statute prohibits a state bank from directly engaging, as a principal, in any activity or investment that is not permissible for a national bank, or indirectly through a subsidiary in an activity or investment that is not permissible for a subsidiary of a national bank, unless such bank meets its minimum capital requirements and the FDIC determines that the activity or investment does not pose a significant risk to the Deposit Insurance Fund (DIF). The FDIC can make such a determination for exception by regulation or by order. Section 28(a), 12 U.S.C. 1831e, similarly limits the investments and activities of state savings associations and their service corporations to those permitted by federal savings associations and their service corporations, absent FDIC approval. Part 362 details the activities that state banks or their subsidiaries may engage in, under certain criteria and conditions and identifies the information that state banks must furnish to the FDIC in order to obtain the FDIC's approval or non-objection. Part 362 also applies to the activities and investments of state savings associations and their subsidiaries.

There is no change in the method or substance of the collection. The increase in burden hours is the result of economic fluctuation. In particular, the number of respondents has increased while the hours per response and frequency of responses have remained the same.

3. Title: Privacy of Consumer Financial Information.

OMB Number: 3064-0136.

Form Number: None.

Affected Public: Insured state nonmember banks and consumers.

Burden Estimate:

Summary of Estimated Annual Burden
[OMB No. 3064-0136]
Information collection description | Type of burden (obligation to respond) | Frequency of response | Number of respondents | Number of responses per respondent | Hours per response | Annual burden (hours)
Initial Notice to Consumers | Third Party Disclosure (Mandatory) | On Occasion | 94 | 1.4 | 60 | 7,896
Opt-out Notice | Third Party Disclosure (Mandatory) | On Occasion | 314 | 1 | 8 | 2,512
Annual Notice and Change in Terms | Third Party Disclosure (Mandatory) | Annual | 534 | 1 | 8 | 4,272
Consumer Opt-out | Third Party Disclosure (Voluntary) | On Occasion | 435,225 | 1 | 0.25 | 108,806.25
Total Annual Burden (Hours): |  |  |  |  |  | 123,486.25
Source: FDIC.

General Description of Collection: The elements of this collection are required under sections 503 and 504 of the Gramm-Leach-Bliley Act, 15 U.S.C. 6803, 6804. The collection mandates notice requirements and restrictions on a financial institution's ability to disclose nonpublic personal information about consumers to nonaffiliated third parties.

There is no change in the method or substance of the collection. The overall decrease in burden hours is the result of economic fluctuation. In particular, the estimated number of respondents to the Consumer Opt-out component increased, the number of respondents to the other components decreased and the hours per response and frequency of responses have remained the same.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, this 4th day of February 2022.
Federal Deposit Insurance Corporation.
James P. Sheesley,
Assistant Executive Secretary.

[FR Doc. 2022-02691 Filed 2-8-22; 8:45 am]

BILLING CODE 6714-01-P